DEPARTMENT OF THE INTERIOR

Fish and Wildlife Service

[FWS-R1-R-2010-N222; 10137-1265-0000 S3]

Protection Island and San Juan Islands National Wildlife Refuges, Jefferson, San Juan, Skagit, Island, and Whatcom Counties, WA; Final Comprehensive Conservation Plan, Wilderness Stewardship Plan, and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for Protection Island and San Juan Islands National Wildlife Refuges (NWRs). In this final CCP, we describe how we will manage these refuges for the next 15 years.

ADDRESSES: You may view or obtain copies of the final CCP and FONSI/EA by any of the following methods. You may request a CD-ROM or an electronic copy.

Agency Web Site: Download a copy of the documents at http://pacific.fws.gov/planning.

E-mail: FW1Planning@fws.gov. Include “Protection Island and San Juan Islands NWRs final CCP” in the subject line of the message.

Mail: U.S. Fish and Wildlife Service, Washington Maritime NWRC, 715 Holgerson Road, Sequim, WA 98382.

In-Person Viewing or Pickup: Call 360-457-8451 to make an appointment during regular business hours at 715 Holgerson Road, Sequim, WA.

Local Library or Libraries: The documents are also available for review at the libraries listed under SUPPLEMENTARY INFORMATION.

FOR FURTHER INFORMATION CONTACT: Kevin Ryan, Project Leader, 360-457-8451, kevin_ryan@fws.gov.

SUPPLEMENTARY INFORMATION:

Introduction

With this notice, we finalize the CCP process for Protection Island and San Juan Islands NWRs. We started this process through a notice in the Federal Register (72 FR 45444; August 14, 2007). We released the draft CCP and the EA to the public, announcing and requesting comments in a notice of availability in the Federal Register (75 FR 51098; August 18, 2010).

Protection Island NWR is located in the Strait of Juan de Fuca near the entrance to Discovery Bay in Jefferson County, Washington. It includes 659 acres of land and tideland. Protection Island NWR was established to provide habitat for a diversity of birds, with particular emphasis on nesting bald eagles and seabirds, as well as to protect the hauling-out area for marine mammals. It has one of the largest colonies of rhinoceros auklets in North America. The Refuge also provides opportunities for scientific research and wildlife-oriented education and interpretation.

Most of the San Juan Islands NWR consists of rocks, reefs, and islands scattered throughout the San Juan Archipelago. Two islands, Smith and Minor, are located south of the archipelago within the Strait of Juan de Fuca. The Refuge consists of approximately 449 acres in San Juan, Skagit, Island, and Whatcom Counties, Washington. Most (353 acres) of San Juan Islands NWR is designated wilderness known as the San Juan Islands Wilderness Area. San Juan Islands NWR was established to facilitate management of migratory birds, including serving as a breeding ground and winter sanctuary for native birds. It was also intended to be a refuge for other wildlife. This refuge is particularly important to breeding black oystercatchers, cormorants, and harbor seals.

We announce our decision and the availability of the FONSI for the final CCP for Protection Island and San Juan Islands NWRs in accordance with National Environmental Policy Act (NEPA) (40 CFR 1506.6(b)) requirements. We completed a thorough analysis of impacts on the human environment, which we included in the EA that accompanied the draft CCP.

The CCP will guide us in managing and administering Protection Island and San Juan Islands Refuges for the next 15 years. Alternative B, as we described in the final CCP, is the foundation for the CCP, with slight modifications.

Background

The National Wildlife Refuge System Administration Act of 1966 (16 U.S.C. 668dd-668ee) (Refuge Administration Act), as amended by the National Wildlife Refuge System Improvement Act of 1997, requires us to develop a CCP for each refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Refuge Administration Act.

CCP Alternatives, Including Selected Alternative

Our draft CCP and our EA (75 FR 51098) addressed several issues. To address these, we developed and evaluated the following alternatives:

Alternative A: Current Management

Under Alternative A, the refuges would continue with current management, which focuses on stewardship, including removing unnecessary roads and human structures; allowing natural processes to occur with minimal human intervention; monitoring wildlife species; and working with partners to reduce the risk of oil spills, clean up marine debris, and educate boaters to minimize human-caused wildlife disturbance. Recreational activities would continue as they have in the past and be facilitated through a State Parks partnership.

Alternative B: Preferred Alternative

This Alternative would continue many of the activities in Alternative A, but would also include a greater number of active habitat management projects, such as removal of deer from Protection Island to enhance seabird nesting habitat and forest habitat; carrying out of restoration projects on the spits, grasslands, and forests to increase native plant diversity; and facilitation of research studies that answer refuge management questions. Public use changes include enforcing no-pets regulations on all San Juan Islands Refuge lands, and closing some areas on Turn Island, including all of the rocky shoreline to the east and the southeast “pocket” beach, as well as some of the Island's interior. Overnight camping on Turn and Matia Islands would be limited to visitors arriving by human-powered craft, and a camping reservation system would be initiated. There would be more emphasis on enhancing the public's understanding and appreciation of the refuges' natural, cultural, and wilderness resources through both on- and off-refuge interpretation and education programs. There would be fewer large signs but more medium-sized signs installed on San Juan Islands Refuge units to discourage close approach or trespassing on closed islands. Regulatory signs on both refuges would be updated with improved wording and sizing to enhance their effectiveness. There would also be more emphasis on working with existing partners and developing new partnerships to accomplish objectives.

Alternative C

This Alternative is very similar to Alternative B. However, under Alternative C there would be fewer acres of native habitat restoration, as well as fewer research studies and surveys. Camping would continue, but with fewer campsites on Matia Island. Turn Island would be limited to day-use only. Compared to Alternative B, fewer and mostly smaller signs would be used in Alternative C to identify closed refuge islands and reduce human-caused wildlife disturbance.

Comments

We requested comments on the draft CCP and the EA for Protection Island and San Juan Islands NWRs from August 13, 2010, to September 17, 2010 (75 FR 51098). We sent notification to over 700 individuals and organizations on our mailing list for this CCP, provided the draft CCP and EA on the Regional Web site, and provided a press release to local media. We received over 40 letters and e-mails from the public. Based on a thorough evaluation of the public comments we received, we slightly modified the CCP/EA. Changes include modifications to several CCP strategies, including:

• We will begin coordination with Treaty Tribes regarding step-down planning for deer removal on Protection Island;

• We will perform additional monitoring of visitors' use before deciding whether to initiate a new camping reservation system;

• We added several potential partners to Appendix G; and

• We updated Appendix E, the Integrated Pest Management Program, with information from a new Service policy (569 FW 1).

Selected Alternative

After considering the comments we received, we have selected Alternative B for implementation. Under Alternative B, the Service and partners will:

• Protect, maintain, and where feasible, restore habitats—including shoreline, sandy bluffs, grasslands and balds, forests and woodlands, and wetlands—for priority species, including seabirds, shorebirds, bald eagles, marine mammals, and endemic plants.

• Minimize human-caused wildlife disturbance on and near closed refuge islands, rocks, and shorelines.

• Manage invasive species and State- and county-listed noxious weeds.

• Survey and protect paleontological and cultural resources.

• Increase inventory and monitoring efforts.

• Encourage and facilitate research that addresses refuge management questions.

• Design and implement a site plan for refuge administration and research facilities on Protection Island in order to reduce the human “footprint,” improve refuge management capability, improve research coordination, and reduce liquid fuel consumption by expanding solar power capabilities.

• Reduce the number of campsites on Turn Island and limit camping on both Turn and Matia Islands to visitors arriving by human-powered boats.

• Enhance and increase on- and off-refuge environmental education and interpretation, as well as wildlife observation and photography opportunities.

• Increase outreach to boaters, schoolchildren, local residents, and tourists.

• Use signs and other management techniques efficiently and effectively on wilderness rocks and islands to assist in maintaining their wildlife and intrinsic values while minimizing impacts to wilderness character.

Public Availability of Documents

In addition to the methods in ADDRESSES, you can view documents at the following libraries:

Library | Address | Phone No.
Anacortes Public Library | 1220 10th Street, Anacortes, WA 98221 | 360-293-1910
Bellingham Public Library | 210 Central Avenue CS-9710, Bellingham, WA 98227 | 360-778-7323
Clinton Public Library | 4781 Deer Lake Road, Clinton, WA 98236 | 360-341-4280
Coupeville Public Library | 788 NW. Alexander, Coupeville, WA 98239 | 360-678-4911
Evergreen State College Library | 2700 Evergreen Parkway NW., Olympia, WA 98505 | 360-867-6250
Island Public Library | 2144 S. Nugent Road, Lummi Island, WA 98262 | 360-758-7145
Jefferson County Central Library | P.O. Box 990, Port Hadlock, WA 98339 | 360-385-6544
Lopez Island Public Library | 2225 Fisherman Bay Rd., Lopez Island, WA 98261 | 360-468-2265
North Olympic Public Library | 630 N. Sequim Ave., Sequim, WA 98382 | 360-683-1161
Oak Harbor Public Library | 1000 SE. Regatta Dr., Oak Harbor, WA 98377 | 360-675-5115
Orcas Island Public Library | 500 Rose St., Eastsound, WA 98245 | 360-376-4985
Peninsula College Library | 1502 E. Lauridsen Blvd., Port Angeles, WA 98362 | 360-417-6280
San Juan Islands Library | 1010 Guard St., Friday Harbor, WA 98250 | 360-378-2798
Shaw Island Library | P.O. Box 844, Shaw Island, WA 98286 | N/A
University of Puget Sound Library | 1500 N. Warner St. Campus, Mail Box 1021 Tacoma, WA 98416 | 253-879-3669
University of Washington Library | Box 3529000, Seattle, WA 98195 | 206-543-0242
Waldron Island Library | Waldron Island, WA | 360-588-3383
Washington State Library | P.O. Box 424, Olympia, WA 98504 | 360-704-5250
Washington State University Library | Owen Science Library, Washington State University, Pullman, WA 99164 | 509-335-6691
Western Washington University | 516 High St., Bellingham, WA 98225 | 360-650-3050

Dated: December 21, 2010.
Richard R. Hannan,
Acting Regional Director, Portland, Oregon.

[FR Doc. 2011-8418 Filed 4-7-11; 8:45 am]

BILLING CODE 4310-55-P